DEPARTMENT OF THE INTERIOR

Bureau of Reclamation

[RR83550000, 234R5065C6, RX.59389832.1009676]

Quarterly Status Report of Water Service, Repayment, and Other Water-Related Contract Actions

AGENCY: Bureau of Reclamation, Interior.

ACTION: Notice of contract actions.

SUMMARY: Notice is hereby given of contractual actions that have been proposed to the Bureau of Reclamation (Reclamation) and are new, discontinued, or completed since the last publication of this notice. This notice is one of a variety of means used to inform the public about proposed contractual actions for capital recovery and management of project resources and facilities consistent with section 9(f) of the Reclamation Project Act of 1939. Additional announcements of individual contract actions may be published in the Federal Register and in newspapers of general circulation in the areas determined by Reclamation to be affected by the proposed action.

ADDRESSES: The identity of the approving officer and other information pertaining to a specific contract proposal may be obtained by calling or writing the appropriate regional office at the address and telephone number given for each region in the SUPPLEMENTARY INFORMATION section of this notice.

FOR FURTHER INFORMATION CONTACT: Michelle Kelly, Reclamation Law Administration Division, Bureau of Reclamation, P.O. Box 25007, Denver, Colorado 80225-0007; mkelly@usbr.gov; telephone 303-445-2888.

SUPPLEMENTARY INFORMATION: Consistent with section 9(f) of the Reclamation Project Act of 1939, and the rules and regulations published in 52 FR 11954, April 13, 1987 (43 CFR 426.22), Reclamation will publish notice of proposed or amendatory contract actions for any contract for the delivery of project water for authorized uses in newspapers of general circulation in the affected area at least 60 days prior to contract execution. Announcements may be in the form of news releases, legal notices, official letters, memorandums, or other forms of written material. Meetings, workshops, and/or hearings may also be used, as appropriate, to provide local publicity. The public participation procedures do not apply to proposed contracts for the sale of surplus or interim irrigation water for a term of 1 year or less. Either of the contracting parties may invite the public to observe contract proceedings. All public participation procedures will be coordinated with those involved in complying with the National Environmental Policy Act. Pursuant to the “Final Revised Public Participation Procedures” for water resource-related contract negotiations, published in 47 FR 7763, February 22, 1982, a tabulation is provided of all proposed contractual actions in each of the five Reclamation regions. When contract negotiations are completed, and prior to execution, each proposed contract form must be approved by the Secretary of the Interior, or pursuant to delegated or redelegated authority, the Commissioner of Reclamation or one of the regional directors. In some instances, congressional review and approval of a report, water rate, or other terms and conditions of the contract may be involved.

Public participation in and receipt of comments on contract proposals will be facilitated by adherence to the following procedures:

1. Only persons authorized to act on behalf of the contracting entities may negotiate the terms and conditions of a specific contract proposal.

2. Advance notice of meetings or hearings will be furnished to those parties that have made a timely written request for such notice to the appropriate regional or project office of Reclamation.

3. Written correspondence regarding proposed contracts may be made available to the general public pursuant to the terms and procedures of the Freedom of Information Act, as amended.

4. Written comments on a proposed contract or contract action must be submitted to the appropriate regional officials at the locations and within the time limits set forth in the advance public notices.

5. All written comments received and testimony presented at any public hearings will be reviewed and summarized by the appropriate regional office for use by the contract approving authority.

6. Copies of specific proposed contracts may be obtained from the appropriate regional director or his or her designated public contact as they become available for review and comment.

7. In the event modifications are made in the form of a proposed contract, the appropriate regional director shall determine whether republication of the notice and/or extension of the comment period is necessary.

Factors considered in making such a determination shall include, but are not limited to, (i) the significance of the modification, and (ii) the degree of public interest which has been expressed over the course of the negotiations. At a minimum, the regional director will furnish revised contracts to all parties who requested the contract in response to the initial public notice.

Definitions of Abbreviations Used in the Reports

ARRA American Recovery and Reinvestment Act of 2009

BCP Boulder Canyon Project

Reclamation Bureau of Reclamation

CAP Central Arizona Project

CUP Central Utah Project

CVP Central Valley Project

CRSP Colorado River Storage Project

XM Extraordinary Maintenance

EXM Emergency Extraordinary Maintenance

FR Federal Register

IDD Irrigation and Drainage District

ID Irrigation District

M&I Municipal and Industrial

O&M Operation and Maintenance

OM&R Operation, Maintenance, and Replacement

P-SMBP Pick-Sloan Missouri Basin Program

RRA Reclamation Reform Act of 1982

SOD Safety of Dams

SRPA Small Reclamation Projects Act of 1956

USACE U.S. Army Corps of Engineers

WD Water District

WIIN Act Water Infrastructure Improvements for the Nation Act

Missouri Basin—Interior Region 5: Bureau of Reclamation, P.O. Box 36900, Federal Building, 2021 4th Avenue North, Billings, Montana 59101, telephone 406-247-7752.

New contract actions:

26. Talen Energy Supply, LLC; Yellowtail Unit, P-SMBP; Montana-Wyoming: Consideration for a 5-year contract renewal for an M&I water supply.

27. Tintina Montana, Inc.; Canyon Ferry Unit, P-SMBP; Montana: Consideration for a long-term contract for an M&I mitigation water supply.

28. PacifiCorps; Glendo Unit, P-SMBP; Wyoming: Consideration for a 5-year excess capacity contract.

29. Frenchman-Cambridge ID; Frenchman-Cambridge Division, P-SMBP; Nebraska: Consideration to amend contract for change to the place of use and point of diversion.

Modified contract action:

22. Water user entities responsible for payment of reimbursable costs for Reclamation projects in Colorado, Kansas, Montana, Nebraska, North Dakota, Oklahoma, South Dakota, Texas, and Wyoming: Contracts to be executed pursuant to title IX of the Infrastructure Investment and Jobs Act of November 15, 2021 (Pub. L. 117-58), and/or contracts for XM pursuant to title IX, subtitle G of Omnibus Public Land Management Act of March 30, 2009 (Pub. L. 111-11). For more information, please see https://www.usbr.gov/bil/.

Completed contract actions:

14. Canyon Ferry Water Users Association; Canyon Ferry Unit, P-SMBP; Montana: Consideration of a new long-term contract for an irrigation water supply. Contract executed on April 7, 2023.

21. Greenfields ID, Sun River Project, Montana: Consideration of a lease of power privilege. Lease of power privilege for Arnold Coulee executed February 1, 2023. Consideration for additional sites is ongoing.

Upper Colorado Basin—Interior Region 7: Bureau of Reclamation, 125 South State Street, Room 8100, Salt Lake City, Utah 84138-1102, telephone 801-524-3864.

New contract action:

38. D.E. Shaw Renewable Investments, Navajo-Gallup Water Supply Project, New Mexico: Reclamation received a request for negotiations for a carriage contract with Shaw pursuant to Public Law 111-11, section 10602(h) which provides conveyance and storage of non-project water through project facilities and sets forth payment of OM&R costs assignable to the Shaw for the use of project facilities.

39. Ouray County and Tri-County Water Conservancy District, Dallas Creek Project, Colorado: The District requests a water service contract for a one-time, annual, release of up to 3,000 acre-feet of irrigation water and up to 6 acre-feet of M&I water from Ridgway Reservoir.

Modified contract action:

36. Water user entities responsible for payment of reimbursable costs for Reclamation projects in Colorado and Utah: Contracts to be executed pursuant to title IX of the Infrastructure Investment and Jobs Act of November 15, 2021 (Pub. L. 117-58), and/or contracts for XM pursuant to title IX, subtitle G of Omnibus Public Land Management Act of March 30, 2009 (Pub. L. 111-11). For more information, please see https://www.usbr.gov/bil/.

Completed contract action:

39. Ouray County and Tri-County Water Conservancy District, Dallas Creek Project, Colorado: The District requests a water service contract for a one-time, annual, release of up to 3,000 acre-feet of irrigation water and up to 6 acre-feet of M&I water from Ridgway Reservoir. Contract executed on April 1, 2023.

Discontinued contract action:

37. Strawberry Valley Water Users Association, Strawberry Valley Project, Utah: The Association is pursuing a conversion contract under the Miscellaneous Purposes Act of 1920 to convert all or part of its water from irrigation to miscellaneous purposes.

Lower Colorado Basin—Interior Region 8: Bureau of Reclamation, P.O. Box 61470 (Nevada Highway and Park Street), Boulder City, Nevada 89006-1470, telephone 702-293-8192.

Modified contract action:

22. Water user entities responsible for payment of reimbursable costs for Reclamation projects in Arizona and California: Contracts to be executed pursuant to title IX of the Infrastructure Investment and Jobs Act of November 15, 2021 (Pub. L. 117-58), and/or contracts for XM pursuant to title IX, subtitle G of Omnibus Public Land Management Act of March 30, 2009 (Pub. L. 111-11). For more information, please see https://www.usbr.gov/bil/.

Completed contract actions:

10. Wilbur G. and Carrol D. Schroeder, BCP, California: Terminate contract No. 6-07-30-W0137 for delivery of Colorado River water under Present Perfected Right No. 38 as described in the 2006 Consolidated Decree in Arizona v. California, 547 U.S. 150. Action completed on January 31, 2023.

11. Sunmor Properties, Inc., BCP, California: Terminate contract No. 6-07-30-W0139 for delivery of Colorado River water under Present Perfected Right No. 38 as described in the 2006 Consolidated Decree in Arizona v. California, 547 U.S. 150. Action completed on January 31, 2023.

12. Ronnie and Linda Herndon, BCP, California: Terminate contract No. 6-07-30-W0138 for delivery of Colorado River water under Present Perfected Right No. 38 as described in the 2006 Consolidated Decree in Arizona v. California, 547 U.S. 150. Action completed on January 31, 2023.

13. Jack D. Brown, BCP, California: Terminate contract No. 7-07-30-W0149 for delivery of Colorado River water under Present Perfected Right No. 38 as described in the 2006 Consolidated Decree in Arizona v. California, 547 U.S. 150. Action completed on January 31, 2023.

14. Palms River Resort, Inc., BCP, California: Offer a contract to the current landowner for delivery of Colorado River water under Present Perfected Right No. 38 as described in the 2006 Consolidated Decree in Arizona v. California, 547 U.S. 150. Action completed on January 31, 2023.

Columbia-Pacific Northwest—Interior Region 9: Bureau of Reclamation, 1150 North Curtis Road, Suite 100, Boise, Idaho 83706-1234, telephone 208-378-5344.

Modified contract action:

17. Water user entities responsible for payment of reimbursable costs for Reclamation projects in Idaho, Washington, and parts of Montana, Oregon, and Wyoming: Contracts to be executed pursuant to title IX of the Infrastructure Investment and Jobs Act of November 15, 2021 (Pub. L. 117-58) and/or contracts for extraordinary maintenance pursuant to title IX, subtitle G of Omnibus Public Land Management Act of March 30, 2009 (Pub. L. 111-11). For more information, please see https://www.usbr.gov/bil/.

California-Great Basin—Interior Region 10: Bureau of Reclamation, 2800 Cottage Way, Sacramento, California 95825-1898, telephone 916-978-5250.

New contract action:

38. Klamath County Drainage Services District, Klamath Project, Oregon: Agreement for interim O&M of the 1-C Canal.

Modified contract actions:

11. City of Santa Barbara, Cachuma Project, California: Execution of a temporary contract an execution of a long-term Warren Act contract with the City for conveyance of non-project water in Cachuma Project facilities.

33. Water user entities responsible for payment of reimbursable costs for Reclamation projects in California, Nevada, and Oregon: Contracts to be executed pursuant to title IX of the Infrastructure Investment and Jobs Act of November 15, 2021 (Pub. L. 117-58), and/or contracts for XM pursuant to title IX, subtitle G of Omnibus Public Land Management Act of March 30, 2009 (Pub. L. 111-11). For more information, please see https://www.usbr.gov/bil/.

Discontinued contract action:

13. Cachuma Operation and Maintenance Board, Cachuma Project, California: Amendment to SOD contract No. 01-WC-20-2030 to provide for increased SOD costs associated with Bradbury Dam.

Completed contract action:

31. Sacramento River Settlement Contractors, CVP, California: Temporary agreements for the purchase of conserved water for fish and wildlife purposes. Agreements executed on October 14, 2022.

Scott Swanson,
Acting Director, Policy and Programs.

[FR Doc. 2023-13228 Filed 6-21-23; 8:45 am]

BILLING CODE 4332-90-P